DEPARTMENT OF COMMERCE

National Oceanic and Atmospheric Administration

[RTID 0648-XA992]

Virtual Meetings of the Advisory Committee to the U.S. Section to the International Commission for the Conservation of Atlantic Tunas' Species Working Groups

AGENCY: National Marine Fisheries Service (NMFS), National Oceanic and Atmospheric Administration (NOAA), Commerce.

ACTION: Notice of Advisory Committee's Species Working Group meetings.

SUMMARY: The Advisory Committee to the U.S. Section of the International Commission for the Conservation of Atlantic Tunas (ICCAT) is announcing the convening of its spring meeting.

DATES: The Advisory Committee will meet in two open sessions, on April 21, 2021, 1 p.m. to 4 p.m. EDT and May 21, 2021, 1 p.m. to 4 p.m. EDT. The Species Working Groups will separately convene several closed session meetings, which will take place between May 17 and May 18, 2021, and are not open to the public.

ADDRESSES: Please register to attend the open sessions at: https://forms.gle/tEY9ZsWmx6X2FyvN9. Instructions will be emailed to registered meeting participants before the meetings occur.

FOR FURTHER INFORMATION CONTACT: Rachel O'Malley, Office of International Affairs and Seafood Inspection, 301-427-8373 or at rachel.o'malley@noaa.gov.

SUPPLEMENTARY INFORMATION: The Advisory Committee to the U.S. Section to ICCAT will meet in open sessions to receive and discuss information on outcomes of ICCAT's 2020 correspondence process, ICCAT meetings in 2021, and relevant NMFS research and monitoring activities. The public will have access to these open sessions. Agendas for each session are available from the Committee's Executive Secretary upon request (see FOR FURTHER INFORMATION CONTACT).

The Committee will convene separate closed session Species Working Groups between May 17 and May 18, 2021, to discuss sensitive information relating to upcoming ICCAT negotiations regarding Atlantic highly migratory species conservation and management. These sessions are not open to the public, but the results of the Species Working Groups' discussions will be reported to the full Advisory Committee during the Committee's open session on May 21, 2021.

Special Accommodations

The virtual meeting is accessible to people with disabilities. Requests for auxiliary aids should be directed to Rachel O'Malley at 301-427-8373 or rachel.o'malley@noaa.gov at least 5 days prior to the meeting date.

Authority: 16 U.S.C. 971 et seq.; 16 U.S.C. 1801 et seq.

Dated: April 2, 2021.
Alexa Cole,
Director, Office of International Affairs and Seafood Inspection, National Marine Fisheries Service.

[FR Doc. 2021-07180 Filed 4-6-21; 8:45 am]

BILLING CODE 3510-22-P